DEPARTMENT OF COMMERCE

Foreign-Trade Zones Board

[B-53-2022]

Foreign-Trade Zone (FTZ) 126; Authorization of Production Activity; Tesla, Inc.; (Battery Products, Electric Motors, and Energy Storage Products); McCarren and Sparks, Nevada

On November 9, 2022, Tesla, Inc. submitted a notification of proposed production activity to the FTZ Board for its facilities within Subzone 126D, in McCarren and Sparks, Nevada.

The notification was processed in accordance with the regulations of the FTZ Board (15 CFR part 400), including notice in the Federal Register inviting public comment (87 FR 71298, November 22, 2022). On March 9, 2023, the applicant was notified of the FTZ Board's decision that no further review of the activity is warranted at this time. The production activity described in the notification was authorized, subject to the FTZ Act and the FTZ Board's regulations, including section 400.14.

Dated: March 9, 2023.
Elizabeth Whiteman,
Acting Executive Secretary.

[FR Doc. 2023-05172 Filed 3-13-23; 8:45 am]

BILLING CODE 3510-DS-P